DEPARTMENT OF ENERGY

Federal Energy Regulatory Commission

Combined Notice of Filings #2

Take notice that the Commission received the following electric rate filings:

Docket Numbers: ER23-287-000.

Applicants: Duke Energy Carolinas, LLC, Duke Energy Progress, LLC.

Description: § 205(d) Rate Filing: Duke Energy Carolinas, LLC submits tariff filing per 35.13(a)(2)(iii: JOINT OATT Amendment—Gulf Power Company's Withdrawal from the SERTP to be effective 1/1/2023.

Filed Date: 10/31/22.

Accession Number: 20221031-5072.

Comment Date: 5 p.m. ET 11/21/22.

Docket Numbers: ER23-288-000.

Applicants: Guzman Energy, LLC.

Description: § 205(d) Rate Filing: Normal filing 2022 change in status to be effective 11/1/2022.

Filed Date: 10/31/22.

Accession Number: 20221031-5075.

Comment Date: 5 p.m. ET 11/21/22.

Docket Numbers: ER23-289-000.

Applicants: Guzman Energy Partners LLC.

Description: § 205(d) Rate Filing: Normal filing 2022 change in status to be effective 11/1/2022.

Filed Date: 10/31/22.

Accession Number: 20221031-5078.

Comment Date: 5 p.m. ET 11/21/22.

Docket Numbers: ER23-290-000.

Applicants: Guzman Western Slope LLC.

Description: § 205(d) Rate Filing: Normal filing 2022 change in status to be effective 11/1/2022.

Filed Date: 10/31/22.

Accession Number: 20221031-5079.

Comment Date: 5 p.m. ET 11/21/22.

Docket Numbers: ER23-291-000.

Applicants: PJM Interconnection, L.L.C.

Description: § 205(d) Rate Filing: Original Service Agreement No. 6665; Queue Position No. AG1-507 to be effective 9/30/2022.

Filed Date: 10/31/22.

Accession Number: 20221031-5084.

Comment Date: 5 p.m. ET 11/21/22.

Docket Numbers: ER23-292-000.

Applicants: Crete Energy Venture, LLC.

Description: § 205(d) Rate Filing: Non-Material Notice of Change in Status to be effective 12/31/2022.

Filed Date: 10/31/22.

Accession Number: 20221031-5094.

Comment Date: 5 p.m. ET 11/21/22.

Docket Numbers: ER23-293-000.

Applicants: Lincoln Generating Facility, LLC.

Description: § 205(d) Rate Filing: Notice of Non-Material Change in Status to be effective 12/31/2022.

Filed Date: 10/31/22.

Accession Number: 20221031-5095.

Comment Date: 5 p.m. ET 11/21/22.

Docket Numbers: ER23-294-000.

Applicants: Southern Illinois Generation Company, LLC.

Description: § 205(d) Rate Filing: Notice of Non-Material Change in Status to be effective 12/31/2022.

Filed Date: 10/31/22.

Accession Number: 20221031-5096.

Comment Date: 5 p.m. ET 11/21/22.

Docket Numbers: ER23-295-000.

Applicants: American Electric Power Service Corporation, PJM Interconnection, L.L.C.

Description: § 205(d) Rate Filing: American Electric Power Service Corporation submits tariff filing per 35.13(a)(2)(iii: AEP submits update to Attachment 1 of ILDSA, SA No. 1336 (10/31/22) to be effective 10/1/2022.

Filed Date: 10/31/22.

Accession Number: 20221031-5099.

Comment Date: 5 p.m. ET 11/21/22.

Docket Numbers: ER23-296-000.

Applicants: Basin Electric Power Cooperative.

Description: Tariff Amendment: Basin Electric Notice of Cancellation of Service Agreements 9 & 16 to be effective 12/31/2022.

Filed Date: 10/31/22.

Accession Number: 20221031-5101.

Comment Date: 5 p.m. ET 11/21/22.

Docket Numbers: ER23-297-000.

Applicants: Southern California Edison Company.

Description: § 205(d) Rate Filing: SCE 2023 TRBAA Update to be effective 1/1/2023.

Filed Date: 10/31/22.

Accession Number: 20221031-5102.

Comment Date: 5 p.m. ET 11/21/22.

Docket Numbers: ER23-298-000.

Applicants: Southern Maryland Electric Cooperative, Inc., PJM Interconnection, L.L.C.

Description: § 205(d) Rate Filing: Southern Maryland Electric Cooperative, Inc. submits tariff filing per 35.13(a)(1): SMECO Revisions to OATT Schedule 1A and Attachment H-9C to be effective 1/1/2023.

Filed Date: 10/31/22.

Accession Number: 20221031-5106.

Comment Date: 5 p.m. ET 11/21/22.

Docket Numbers: ER23-299-000.

Applicants: ISO New England Inc., The Narragansett Electric Company.

Description: § 205(d) Rate Filing: ISO New England Inc. submits tariff filing per 35.13(a)(2)(iii: Change to Attachment F to add The Narragansett Electric Company as a PTO to be effective 1/1/2023.

Filed Date: 10/31/22.

Accession Number: 20221031-5110.

Comment Date: 5 p.m. ET 11/21/22.

Docket Numbers: ER23-300-000.

Applicants: Jayhawk Wind, LLC.

Description: § 205(d) Rate Filing: Notice of Non-Material Change in Status and MBR Tariff Revisions to be effective 12/31/2022.

Filed Date: 10/31/22.

Accession Number: 20221031-5133.

Comment Date: 5 p.m. ET 11/21/22.

Docket Numbers: ER23-301-000.

Applicants: CenterPoint Energy Houston Electric, LLC.

Description: § 205(d) Rate Filing: TFO Tariff Interim Rate Revision to Conform with PUCT to be effective 10/28/2022.

Filed Date: 10/31/22.

Accession Number: 20221031-5158.

Comment Date: 5 p.m. ET 11/21/22.

Docket Numbers: ER23-302-000.

Applicants: Midcontinent Independent System Operator, Inc., Michigan Electric Transmission Company, LLC.

Description: § 205(d) Rate Filing: Midcontinent Independent System Operator, Inc. submits tariff filing per 35.13(a)(2)(iii: 2022-10-31_SA 3926 METC-Branch Solar E&P (J1550) to be effective 10/12/2022.

Filed Date: 10/31/22.

Accession Number: 20221031-5159.

Comment Date: 5 p.m. ET 11/21/22.

Docket Numbers: ER23-303-000.

Applicants: Danske Commodities US LLC.

Description: Baseline eTariff Filing: Application For Market Based Rate Authorization to be effective 1/1/2023.

Filed Date: 10/31/22.

Accession Number: 20221031-5166.

Comment Date: 5 p.m. ET 11/21/22.

Docket Numbers: ER23-304-000.

Applicants: Alabama Power Company.

Description: § 205(d) Rate Filing: Calhoun Facility IA Amendment Filing to be effective 9/30/2022.

Filed Date: 10/31/22.

Accession Number: 20221031-5177.

Comment Date: 5 p.m. ET 11/21/22.

Docket Numbers: ER23-305-000.

Applicants: Dynasty Power Inc.

Description: Compliance filing: Cost Justification Regarding Certain WECC Spot Market Sales to be effective N/A.

Filed Date: 10/31/22.

Accession Number: 20221031-5185.

Comment Date: 5 p.m. ET 11/21/22.

Docket Numbers: ER23-306-000.

Applicants: Pacific Gas and Electric Company.

Description: § 205(d) Rate Filing: PG&E UOG Amendments for Attachments 4 and 5 (SA Nos. 448, 449, 450, and 495) to be effective 1/1/2023.

Filed Date: 10/31/22.

Accession Number: 20221031-5205.

Comment Date: 5 p.m. ET 11/21/22.

Take notice that the Commission received the following electric securities filings:

Docket Numbers: ES23-4-000.

Applicants: Kingsport Power Company.

Description: Application Under Section 204 of the Federal Power Act for Authorization to Issue Securities of Kingsport Power Company.

Filed Date: 10/28/22.

Accession Number: 20221028-5317.

Comment Date: 5 p.m. ET 11/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2022.
Debbie-Anne A. Reese,
Deputy Secretary.

[FR Doc. 2022-24037 Filed 11-3-22; 8:45 am]

BILLING CODE 6717-01-P